DEPARTMENT OF JUSTICE

Notice of Lodging Proposed Consent Decree

In accordance with Departmental Policy, 28 CFR 50.7, notice is hereby given that a proposed Consent Decree in United States v. Richmond American Homes of Maryland, Inc., Civ. No. 2:08-CV-01654, was lodged with the United States District Court for the Eastern District of California on July 18, 2008. This proposed Consent Decree concerns a complaint filed by the United States against Richmond American Homes of Maryland, Inc., pursuant to Sections 301(a) and 404 of the Clean Water Act (“CWA”), 33 U.S.C. 1311(a), 1344, to obtain injunctive relief from and impose civil penalties against the Defendant for violating the Clean Water Act by discharging pollutants without a permit into waters of the United States. The proposed Consent Decree resolves these allegations by requiring the Defendant to pay a civil penalty and a fee in lieu of direct mitigation for its impacts to waters of the United States.

The Department of Justice will accept written comments relating to this proposed Consent Decree for thirty (30) days from the date of publication of this Notice. Please address comments to Sylvia Quast, Assistant United States Attorney, 501 I Street, Suite 10-100, Sacramento, California 95814 and refer to United States v. Richmond American Homes of Maryland, Inc., DJ # 90-5-1-1-18307.

The proposed Consent Decree may be examined at the Clerk's Office, United States District Court for the Eastern District of California, 4-200 Robert T. Matsui United States Courthouse, 501 I Street, Sacramento, California 95814. In addition, the proposed Consent Decree may be viewed at http://www.usdoj.gov/enrd/Consent_Decrees.html.

Stephen Samuels,
Assistant Chief, Environmental Defense Section, Environment & Natural Resources Division.

[FR Doc. E8-16976 Filed 7-23-08; 8:45 am]

BILLING CODE 4410-15-P